DEPARTMENT OF JUSTICE

Drug Enforcement Administration

Worth S. Wilkinson, M.D.; Revocation of Registration

On March 1, 2005, the Deputy Assistant Administrator, Office of Diversion Control, Drug Enforcement Administration (DEA), issued an Order to Show Cause to Worth S. Wilkinson, M.D. (Dr. Wilkinson) of Shreveport, Louisiana, notifying him of an opportunity to show cause as to why DEA should not revoke his DEA Certification of Registration BW2217974 under 21 U.S.C. 824(a)(3) and deny any pending applications for renewal or modification of that registration pursuant to 21 U.S.C. 823(f). As a basis for revocation, the Order to Show Cause alleged that Dr. Wilkinson is not currently authorized to practice medicine or handle controlled substances in Louisiana, his state of registration and practice. The Order to Show Cause also notified Dr. Wilkinson that should no request for a hearing be filed within 30 days, his hearing right would be deemed waived.

The Order to Show Cause was sent by certified mail to Dr. Wilkinson at his registered address at 729 Wichita Street, Shreveport, Louisiana 71101 and to his residence at 700 Delaware, Shreveport, Louisiana 71101. According to the return receipt the Order to Show Cause sent to his home was received by Dr. Wilkinson on March 9, 2005. DEA has not received a request for hearing or any other reply from Dr. Wilkinson or anyone purporting to represent him in this matter.

Therefore, the Deputy Administrator of DEA, finding that thirty days having passed since the delivery of the Order to Show Cause to the registrant and no request for hearing having been received, concludes that Dr. Wilkinson is deemed to have waived his hearing right. See Thomas J. Mulhearn, III, M.D., 70 FR 24625 (2005); James E. Thomas, M.D., 70 FR 3564 (2005); Steven A. Barnes, M.D., 69 FR 51474 (2004); David W. Linder, 67 FR 12579 (2002).

After considering material from the investigative file in this matter, the Deputy Administrator now enters her final order without a hearing pursuant to 21 CFR 1301.43(d) and (e) and 1301.46.

The Deputy Administrator finds Dr. Wilkinson currently possesses DEA Certificate of Registration BW2217974, as a practitioner authorized to handle controlled substances in Schedules IV-V. The Deputy Administrator further finds that on October 29, 2004, the Louisiana State Board of Medical Examiners (Louisiana Board) issued an Opinion and Ruling suspending Dr. Wilkinson's license to practice medicine in Louisiana.

That suspension was based upon the Louisiana Board's conclusion that Dr. Wilkinson was in need of further testing and evaluation for alcohol abuse and his apparent physical and mental inability to practice medicine with reasonable skill and safety to his patients.

The investigative file contains no evidence that the Louisiana Board's Opinion and Ruling has been stayed, modified or terminated or that Dr. Wilkinson's medical license has been reinstated. Therefore, the Deputy Administrator finds Dr. Wilkinson is not currently authorized to practice medicine in the State of Louisiana. As a result, it is reasonable to infer he is also without authorization to handle controlled substances in that state.

DEA does not have statutory authority under the Controlled Substances Act to issue or maintain a registration if the applicant or registrant is without state authority to handle controlled substances in the state in which he conducts business. See 21 U.S.C. 802(21), 823(f) and 824(a)(3). This prerequisite has been consistently upheld. See Stephen J. Graham, M.D., 69 FR 11661 (2004); Dominick A. Ricci, M.D., 58 FR 51104 (1993); Bobby Watts, M.D., 53 FR 11919 (1988). Revocation is also appropriate when a state license has been suspended, but with possibility of future reinstatement. See Alton E. Ingram, Jr., M.D., 69 FR 22562 (2004); Anne Lazar Thorn, M.D., 62 FR 847 (1997).

Here, it is clear Dr. Wilkinson's medical license has been suspended and he is not currently licensed to handle controlled substances in Louisiana, where he is registered with DEA. Therefore, he is not entitled to a DEA registration in that state.

Accordingly, the Deputy Administrator of the Drug Enforcement Administration, pursuant to the authority vested in her by 21 U.S.C. 823 and 824 and 28 CFR 0.100(b) and 0.104, hereby orders that DEA Certificate of Registration BW2217974, issued to Worth S. Wilkinson, M.D., be, and it hereby is, revoked. The Deputy Administrator further orders that any pending applications for renewal or modifications of such registration be, and they hereby are, denied. This order is effective June 26, 2006.

Dated: July 6, 2005.
Michael M. Leonhart,
Deputy Administrator.

Editorial note: This document was received at the Office of the Federal Register May 19, 2006.

[FR Doc. 06-4840 Filed 5-24-06; 8:45 am]

BILLING CODE 4410-09-M